DEPARTMENT OF HEALTH AND HUMAN SERVICES

Food and Drug Administration

Subcommittee for the Center for Devices and Radiological Health Science Review of the Science Board to the Food and Drug Administration; Notice of Meeting

AGENCY: Food and Drug Administration, HHS.

ACTION: Notice.

This notice announces a forthcoming meeting of a subcommittee of a public advisory committee of the Food and Drug Administration (FDA). At least one portion of the meeting will be closed to the public.

Name of Committee: Subcommittee for the Center for Devices and Radiological Health Science Review of the Science Board to the Food and Drug Administration.

General Function of the Subcommittee: To provide advice and recommendations to the agency’s Science Board for full public discussion at a future meeting of the Board.

Date and Time: See table 1 in the “Location” section of this document.

Location: See table 1 below.

Table 1.
Meeting Address | Date and Local Time | FDA Contact Person
Twinbrook Bldg., rm. 100, 12725 Twinbrook Pkwy., Rockville, MD | Tuesday, July 24, 2001, from 8:30 a.m. to 5 p.m. | Hany W. Demian
Corporate Bldg., rm. 020B, 9200 Corporate Blvd., Rockville, MD | Wednesday, July 25, 2001, from 8:30 a.m. to 5 p.m. | Do
Piccard Bldg., rm. 100, 1350 Piccard Dr., Rockville, MD | Thursday, July 26, 2001, from 8:30 a.m. to 5 p.m. | Do

Contact: Hany W. Demian, Center for Devices and Radiological Health (HFZ-410), Food and Drug Administration, 9200 Corporate Blvd., Rockville, MD 20850, 301-594-2036, or FDA Advisory Committee Information Line, 1-800-741-8138 (301-443-0572 in the Washington, DC area), code 12522. Please call the Information Line for up-to-date information on this meeting.

Agenda: On July 25, 2001, the subcommittee will hear public comments related to the Center's science review. Information is available on the Internet at http://www.fda.gov/cdrh/strategic/.

Procedure: On July 25, 2001, from 1 p.m. to 2 p.m., the meeting is open to the public. Interested persons may present data, information, or views, orally or in writing, regarding the Center's science review. Written submissions may be made to the contact person by July 20, 2001. Oral presentations from the public will be scheduled between approximately 1 p.m. and 2 p.m. Time allotted for each presentation may be limited. Those desiring to make formal oral presentations should notify the contact person by July 20, 2001, and submit a brief statement of the general nature of the evidence or arguments they wish to present, the names and addresses of proposed participants, and an indication of the approximate time requested to make their presentation.

Closed Subcommittee Deliberations: On July 24, 2001, from 8:30 a.m. to 5 p.m.; on July 25, 2001, from 8:30 a.m. to 1 p.m., and from 2 p.m. to 5 p.m.; and on July 26, 2001, from 8:30 a.m. to 3 p.m., the meeting will be closed to the public. The meeting will be closed to permit discussion and review of trade secret and/or confidential information.

FDA regrets that it was unable to publish this notice 15 days prior to the July 24, 25, and 26, 2001, Subcommittee for the Center for Devices and Radiological Health Science Review of the Science Board to the Food and Drug Administration meeting. Because the agency believes there is some urgency to bring this issue to public discussion and qualified members of the Subcommittee for the Center for Devices and Radiological Health Science Review of the Science Board to the Food and Drug Administration were available at this time, the Commissioner of Food and Drugs concluded that it was in the public interest to hold this meeting even if there was not sufficient time for the customary 15-day public notice.

Dated: July 12, 2001.
Bonnie H. Malkin,
Special Assistant to the Senior Associate Commissioner.

[FR Doc. 01-17917 Filed 7-13-01; 12:20 pm]

BILLING CODE 4160-01-S